DEPARTMENT OF HEALTH AND HUMAN SERVICES

National Institutes of Health

Center for Scientific Review; Amended Notice of Meeting

Notice is hereby given of a change in the meeting of the Xenobiotic and Nutrient Disposition and Action Study Section, October 2, 2013, 08:00 a.m. to October 2, 2013, 08:00 p.m., Hyatt Regency Bethesda, One Bethesda Metro Center, 7400 Wisconsin Avenue, Bethesda, MD 20814, which was published in the Federal Register on September 3, 2013, 78 FR 170 Pgs. 54259-54261.

The meeting will be held at the National Institutes of Health, 6701 Rockledge Drive, Bethesda, MD 20892. The meeting will start on November 7, 2013 at 9:00 a.m. and end November 7, 2013 at 6:00 p.m. The meeting is closed to the public.

Dated: October 29, 2013.
Melanie J. Gray,
Program Analyst, Office of Federal Advisory Committee Policy.

[FR Doc. 2013-26183 Filed 11-1-13; 8:45 am]

BILLING CODE 4140-01-P